DEPARTMENT OF HEALTH AND HUMAN SERVICES

Announcement of Availability of Funds for the National Faith-Based and National Community Cardiovascular Disease Prevention Programs for High-Risk Women

AGENCY: Office on Women's Health, Office of Public Health and Science, Office of the Secretary, DHHS.

ACTION: Notice; correction.

SUMMARY: The Office on Women's Health, Office of Public Health and Science, Office of the Secretary, published a notice in the Federal Register on Tuesday, June 6, 2006 announcing the availability of funds for approximately two grants. This notice is to correct the following information contained in that announcement:

(1) Corrects the Anticipated Award date for the grant awards.

(2) Amends the expected increase of funding available for this grant; thereby, increasing the number of grants to be awarded, and also increasing the funding amount for each individual grant award.

(3) Corrects the number of pages to be submitted for the Project Narrative description to be submitted in the grant application.

(4) Corrects the omission of the Office on Minority Health as a partner during the performance period of this grant.

(5) Corrects some statistical data provided in the announcement.

(6) Corrects some page numbers listed in the Reference section in the announcement.

FOR FURTHER INFORMATION CONTACT: Dr. Suzanne Haynes, 202-205-2623.

Corrections

In the Federal Register of June 6, 2006, FR Doc. 06-5135, on page 32538, column 3, in the DATES section, correct to read as follows: Anticipated Award Date: September 1, 2006.

In the Federal Register of June 6, 2006, FR Doc. 06-5135, on page 32539, column 3, second paragraph, second sentence in the Funding Opportunity Description section, under Curriculum Development, correct to read as follows: “The OWH, ORWH/NIH, and the OMH will not provide the grantee with curriculum.”

In the Federal Register of June 6, 2006, FR Doc. 06-5135, on page 32542, column 2, first paragraph, second sentence in the Award Information section, correct to read as follows:

Under this announcement, OWH/ORWH/NIH and OMH anticipate making, through the cooperative agreement grant mechanism, up to four new 18-month awards by September 1, 2006.

Approximately $1,000,000 in FY 2006 funds is available to make individual grant awards up to $250,000 total cost (direct and indirect) for an 18-month period. The actual number of awards will depend on the quality of the applications received and the amount of funds available for the program. The government is not obligated to make any awards as a result of this announcement.

In the Federal Register of June 6, 2006, FR Doc. 06-5135, on page 32544, in the Eligibility Information section, column 1, last paragraph, correct to read as follows: “If funding is requested in an amount greater than the ceiling of the award range ($250,000 total cost for an 18-month period), the application will be considered non-responsive and will not be entered into the review process.”

In the Federal Register of June 6, 2006, FR Doc. 06-5135, on page 32544, in the IV. Application and Submission Information section, under the Application section, column 2, first paragraph, seventh sentence, correct to read as follows: “The Project Narrative, excluding the appendices, is limited to a total of 50 pages, the fronts and backs of 25 pieces of paper.”

In the Federal Register of June 6, 2006, FR Doc. 06-5135, on page 32548, in the Application Review Information section, under the Review and Selection Process section, column 1, first paragraph, sentence three, correct to read as follows:

“If funding is requested in an award range ($250,000 for an 18-month budget period), the application will be returned with notification that it did not meet the submission requirements.”

In the Federal Register of June 6, 2006, FR Doc. 06-5135, on page 32549, in the Other Information section, under Women and Cardiovascular Disease, column 1, fourth bullet, correct to read as follows: “Thirty-eight percent of women die within one year of having a heart attack compared to 25 percent of men who have heart attacks (2).”

In the Federal Register of June 6, 2006, FR Doc. 06-5135, on page 32550, in the Other Information section, under Cardiovascular Disease Interventions, column 2, second paragraph, second sentence, correct to read as follows: “Such CVD interventions have been administered at various venues, including churches, community health centers, community health clinics, YMCAs and other health clubs, schools, Head Start facilities, etc. (25-33). Studies indicate that several aspects of targeted CVD intervention programs are particularly effective in modifying the CVD risk behaviors of women (1, 25, 26, 34-39).”

In the Federal Register of June 6, 2006, FR Doc. 06-5135, on page 32551, in the References section, column 2, Reference Number 15, correct to read as follows: “15. Pai JK, Pischon T, Ma J, et al. Inflammatory markers and the risk of coronary heart disease in men and women. N Engl J Med 2004; 351(25):2599-610.”

Dated: June 8, 2006.
Wanda K. Jones,
Deputy Assistant Secretary for Health.

[FR Doc. E6-9641 Filed 6-19-06; 8:45 am]

BILLING CODE 4150-33-P